DEPARTMENT OF HOMELAND SECURITY

Coast Guard

[Docket No. USCG-2013-0089]

Merchant Mariner Medical Evaluation Program

AGENCY: Coast Guard, DHS.

ACTION: Notice and request for comments.

SUMMARY: The Coast Guard is seeking public comment regarding the merchant mariner medical evaluation program. Section 718 of the Coast Guard Authorization Act of 2012 directed the Commandant of the Coast Guard to submit to Congress an assessment of the Coast Guard National Maritime Center's merchant mariner medical evaluation program and alternatives to the program. Congress specifically asked the Coast Guard to include an analysis of how a system similar to the Federal Motor Carrier Safety Administration's National Registry of Certified Medical Examiners program, and the Federal Aviation Administration's Designated Aviation Medical Examiners program, could be applied by the Coast Guard in making medical fitness determinations for issuance of merchant mariners' documents. The Coast Guard will accept comments from the public on the perceived benefits and concerns with adopting a similar program for the medical evaluation of merchant mariners.

DATES: Comments and related material must either be submitted to our online docket via http://www.regulations.gov on or before May 2, 2013 or reach the Docket Management Facility by that date.

ADDRESSES: You may submit comments identified by docket number USCG-2013-0089 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation” portion of the SUPPLEMENTARY INFORMATION section below for instructions on submitting comments.

FOR FURTHER INFORMATION CONTACT: If you have questions about this notice, call or email Lieutenant Ashley Holm, Office of Commercial Vessel Compliance(CG-CVC-4), U.S. Coast Guard, telephone (202) 372-1128, email MMCPolicy@uscg.mil. If you have questions on viewing material in the docket, call Ms. Barbara Hairston, Program Manager, Docket Operations, telephone 202-366-9826.

SUPPLEMENTARY INFORMATION:

Public Participation

You may submit comments and related material regarding this notice. All comments received will be posted, without change, to http://www.regulations.gov and will include any personal information you have provided.

Submitting comments: If you submit a comment, please include the docket number for this notice (USCG-2013-0089) and provide a reason for each suggestion or recommendation. You may submit your comments and material online or by fax, mail or hand delivery, but please use only one of these means. We recommend that you include your name and a mailing address, an email address, or a telephone number in the body of your document so that we can contact you if we have questions regarding your submission.

To submit your comment online, go to http://www.regulations.gov and insert “USCG-2013-0089” in the “Search” box. Click “Search,” find this notice in the list of Results, and then click on the corresponding “Comment Now” box. If you submit your comments by mail or hand delivery, submit them in an unbound format, no larger than 8½ by 11 inches, suitable for copying and electronic filing. If you submit comments by mail and would like to know that they reached the Facility, please enclose a stamped, self-addressed postcard or envelope.

We will consider all comments and material received during the comment period.

Viewing the comments: To view comments, as well as documents mentioned in this notice as being available in the docket, go to http://www.regulations.gov and use “USCG-2013-0089” as your search term. Use the filters on the left side of the page to highlight “Public Submissions” or other document types. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008 issue of the Federal Register (73 FR 3316).

Background and Purpose

Section 718 of the Coast Guard Authorization Act of 2012 (Pub. L. 112-213) directed the Commandant of the Coast Guard to, not later than 180 days after enactment, submit to the Committee on Transportation and Infrastructure of the House of Representatives and the Committee on Commerce, Science, and Transportation of the Senate an assessment of the Coast Guard National Maritime Center's merchant mariner medical evaluation program and alternatives to the program. Section 718 also directed that the assessment contain the following:

(1) An overview of the adequacy of the program for making medical certification determinations for issuance of merchant mariners' documents;

(2) An analysis of how a system similar to the Federal Motor Carrier Safety Administration's National Registry of Certified Medical Examiners program, and the Federal Aviation Administration's Designated Aviation Medical Examiners program, could be applied by the Coast Guard in making medical fitness determinations for issuance of merchant mariners' documents; and

(3) An explanation of how the amendments to the International Convention on Standards of Training, Certification and Watchkeeping for Seafarers, 1978, that entered into force on January 1, 2012, required changes to the Coast Guard's merchant mariner medical evaluation program.

Currently, the Coast Guard maintains an “open” system of medical evaluation. While the ultimate determination of medical fitness rests with the Coast Guard, mariners may have any authorized medical professional fill out the appropriate evaluation forms which are then submitted to the Coast Guard. The evaluation reports are reviewed by the National Maritime Center and a fitness determination is then made. Conversely, a “closed” system would require mariners to have their physical evaluations done by designated medical examiners who are authorized by the Coast Guard to conduct physical examinations of mariners. Subject to detailed policy guidance, medical certificates may be issued by the designated medical examiner.

Finally, a hybrid system could be adopted whereby the designated medical examiner would issue medical certificates when mariners meet certain pre-established criteria, and the Coast Guard would only be involved in reviewing those mariners who have certain conditions.

The Coast Guard would like public input on the relative merits of a closed, open, or hybrid system of medical evaluation, noting advantages and disadvantages of the different systems. We would also be interested in knowing any other suggestions or comments that address the subject of the assessment required by section 718 of the Coast Guard Authorization Act of 2012.

Authority

This notice is issued under the authority of 46 U.S.C chapter 71, Department of Homeland Security Delegation No. 0710.1, and 46 CFR 10.215.

Dated: March 27, 2013.
D.S. Fish,
Captain, U.S. Coast Guard, Chief, Office of Investigations and Analysis.

[FR Doc. 2013-07574 Filed 4-1-13; 8:45 am]

BILLING CODE 9110-04-P